FEDERAL ELECTION COMMISSION

Sunshine Act Notices

AGENCY: Federal Election Commission.

Date & Time: Tuesday, January 28, 2003, at 10 a.m.

Place: 999 E Street, NW., Washington, DC.

Status: This meeting will be closed to the public.

Items To Be Discussed: Compliance matters pursuant to 2 U.S.C. 437g.

Audits conducted pursuant to 2 U.S.C. 437g, 438(b), and title 26, U.S.C.

Matters concerning participation in civil actions or proceedings or arbitration.

Internal personnel rules and procedures or matters affecting a particular employee.

Date & Time: Thursday, January 30, 2003, at 10 a.m.

Place: 999 E Street, NW., Washington, DC (ninth floor).

Status: This meeting will be closed to the public.

Items To Be Discussed: Correction and approval of minutes.

New and amended FEC reporting forms—BCRA implementation.

New and amended instructions for FEC reporting forms—BCRA implementation.

Administrative matters.

Person to Contact for Information: Mr. Ron Harris, Press Officer. Telephone: (202) 694-1220.

Mary W. Dove,
Secretary of the Commission.

[FR Doc. 03-1669 Filed 1-21-03; 2:41 pm]

BILLING CODE 6715-01-M